DEPARTMENT OF COMMERCE

National Oceanic and Atmospheric Administration

RIN 0648-XH084

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day in-person meeting of its Standing, Reef Fish, Mackerel and Socioeconomic Scientific and Statistical Committees (SSC).

DATES: The meeting will begin at 8:30 a.m. on Tuesday, July 30, 2019 and adjourn by 5 p.m., EDT on Wednesday, July 31, 2019.

ADDRESSES: The meeting will be held at the Gulf Council's office; see address below.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Tuesday, July 30, 2019; 8:30 a.m.-5 p.m.

The meeting will begin with Introductions, Adoption of Agenda, Scope of Work, Approval of Scientific and Statistical Committees (SSC) Minutes from the May 9, 2019 Standing, Reef Fish, Mackerel, and Socioeconomic SSC Webinar; and, Selection of SSC representative to attend the August 12-15, 2019 Council meeting in New Orleans, Louisiana.

The committees will receive presentations on the following: Best Scientific Information Available—NOAA Policy Directive for Stock Status Determinations and Catch Specifications, National Standard 2 (background information); National Standard 1 Guidance on Estimation of Fishing Mortality and Biomass Proxies; Coping with Information Gaps in Stock Productivity for Rebuilding and Achieving Maximum Sustainable Yield for Grouper-Snapper Fisheries; Establishing Stock Status Determination Criteria for Fisheries with High Discards and Uncertain Recruitment; and, a Perspective on Steepness, Reference Points, and Stock Assessment. The committees will then review the revised actions for Status Determination Criteria Amendment.

Wednesday, July 31, 2019; 8:30 a.m.-5 p.m.

The committees will hold a discussion on Alternative Acceptable Biological Catch (ABC) Control Rule; review Marine Recreational Information Program (MRIP) and State Survey Data Collection and Calibration Efforts; discuss SEDAR 62: Gray Triggerfish Progress and Council Research and Monitoring Priorities for 2020-24. The committees will review the scope of work for Gray Snapper and West Florida Hogfish Assessments; review the Gulf SEDAR Assessment Schedule; receive a presentation on Explosive Removal of Structures: Fisheries Impact Assessment; discuss Almaco Jack Life History and Landings; and, any other business items.

—Meeting Adjourns

The meeting will be broadcast via webinar. You may register for listen-in access by visiting www.gulfcouncil.org and clicking on the SSC meeting on the calendar.

The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: July 3, 2019.
Tracey L. Thompson,
Acting Deputy Director, Office of Sustainable Fisheries, National Marine Fisheries Service.

[FR Doc. 2019-14517 Filed 7-8-19; 8:45 am]

BILLING CODE 3510-22-P